UNITED STATES POSTAL SERVICE BOARD OF GOVERNORS

Sunshine Act Meeting

TIMES AND DATES: 1 p.m., Monday, June 3, 2002; 8:30 a.m., Tuesday, June 4, 2002.

PLACE: Washington, DC at U.S. Postal Service Headquarters, 475 L'Enfant Plaza, SW., in the Benjamin Franklin Room.

STATUS: June 3—1 p.m. (Closed); June 4-8:30 a.m. (Open)

MATTERS TO BE CONSIDERED:

Monday, June 3—1 p.m. (Closed)

1. Financial Performance.

2. Strategic Planning.

3. Personnel Matters and Compensation Issues.

Tuesday, June 4—8:30 a.m. (Open)

1. Minutes of the Previous Meeting, May 6-7, 2002.

2. Remarks of the Postmaster General and CEO.

3. Implementation of June 30 Price Changes.

4. Automated Flat Sorting Machine 100 Achievements.

Tuesday, June 4—8:30 a.m. (Open) [continued]

5. Making Information Technology Accessible for Persons with Disabilities.

6. Capital Investment.

a. Northern New Jersey, Teterboro, Processing and Distribution Center.

7. Tentative Agenda for the July 1-2, 2002, meeting in Anchorage, Alaska.

FOR FURTHER INFORMATION CONTACT: William T. Johnstone, Secretary of the Board, U.S. Postal Service, 475 L'Enfant Plaza, SW., Washington, DC 20260-1000. Telephone (202) 268-4800.

William T. Johnstone,
Secretary.

[FR Doc. 02-13367 Filed 5-23-02; 2:21 pm]

BILLING CODE 7710-12-M